NATIONAL FOUNDATION ON THE ARTS AND THE HUMANITIES

Institute of Museum and Library Services

Sunshine Act Meeting of the National Museum and Library Services Board

AGENCY: Institute of Museum and Library Services (IMLS), NFAH.

ACTION: Notice of meeting.

SUMMARY: This notice sets forth the agenda of the forthcoming meeting of the National Museum and Library Services Board. This notice also describes the function of the Board. Notice of the meeting is required under the Sunshine in Government Act.

DATE: Wednesday, November 14 and Thursday, November 15, 2012.

AGENDA: Twenty-Sixth Meeting of the National Museum & Library Service Board Meeting:

November 14, 2012

12:00 p.m.-2:00 p.m. Executive Session

(Closed to the Public)

November 15, 2012

9:00 a.m.-12:00 p.m. Public Session

I. Welcome

II. Approval of Minutes

III. Introduction of New Members

IV. Board Program: Libraries, Museums, and Early Learning

V. Financial Update

VI. Legislative Update

VII. Program Update

VIII. Adjourn

(Open to the Public)

PLACE: The meeting will be held at the Institute of Museum and Library Services. 1800 M Street NW., 9th Floor, Washington, DC, 20036. Telephone: (202) 653-4676.

FOR FURTHER INFORMATION CONTACT: Elizabeth Lyons, Program Coordinator for Special Events and Board Liaison, Institute of Museum and Library Services, 1800 M Street NW., 9th Floor, Washington, DC 20036. Telephone: (202) 653-4676.

SUPPLEMENTARY INFORMATION: The National Museum and Library Services Board is established under the Museum and Library Services Act, 20 U.S.C. Section 9101 et seq. The Board advises the Director of the Institute on general policies with respect to the duties, powers, and authorities related to Museum and Library Services.

The Executive Session from 12:30 p.m. until 2:00 p.m. on Wednesday, November 14, 2012, will be closed pursuant to subsections (c)(4) and (c)(9) of section 552b of Title 5, United States Code because the Board will consider information that may disclose: Trade secrets and commercial or financial information obtained from a person and privileged or confidential; and information the premature disclosure of which would be likely to significantly frustrate implementation of a proposed agency action. The Session from 9:00 a.m. until 12:00 p.m. on Thursday, November 15, 2012 is open to the public.

If you need special accommodations due to a disability, please contact: Institute of Museum and Library Services, 1800 M Street NW., 9th Fl., Washington, DC 20036. Telephone: (202) 653-4676; TDD (202) 653-4614 at least seven (7) days prior to the meeting date.

Dated: November 1, 2012.
Nancy Weiss,
General Counsel.

[FR Doc. 2012-27738 Filed 11-13-12; 8:45 am]

BILLING CODE 7036-01-M